DEPARTMENT OF JUSTICE

Antitrust Division

Notice Pursuant to the National Cooperative Research and Production Act of 1993—Consortium Management Group, Inc. on Behalf of Medical Countermeasure Systems Consortium

Notice is hereby given that, on December 8, 2015, pursuant to Section 6(a) of the National Cooperative Research and Production Act of 1993, 15 U.S.C. 4301 et seq. (“the Act”), Consortium Management Group, Inc. on behalf of Medical Countermeasure Systems Consortium (“CMG-MCSC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Consortium Management Group, Inc. on behalf of Medical Countermeasure Systems Consortium, Washington, DC; ABL, Inc., Rockville, MD; Altimmune, Inc., Gaithersburg, MD; AEQUOR, Inc., Oceanside, CA; Appili Therapeutics, Inc., Halifax, Nova Scotia; BalinBac Therapeutics, Inc., Princeton, NJ; Battelle, Columbus, OH; Bavarian Nordic, Kvistgard, DENMARK; Chemapotheca LLC, Delamar, NY; CONTINUUS Pharmaceuticals, Inc., Woburn, MA; Creare LLC, Hanover, NH; CUBRC, Inc., Buffalo, NY; Dyne Immune Institute for Translational Medicine and Research, Wurtsboro, NY; DynPort Vaccine Company LLC, a CSC Company, Frederick, MD; Elusys Therapeutics, Inc., Pine Brook, NJ; Emergent Biosolutions Inc., Gaithersburg, MD; First Line Technology, LLC, Chantilly, VA; GenArraytion, Inc., Rockville, MD; Ginkgo Bioworks, Boston, MA; IIT Research Institute, Chicago, IL; Institute for Therapeutic Innovation, University of Florida, Orlando, FL; InvivoSciences, Inc. Madison, WI; Lovelace Biomedical and Environmental Research Institute (LBERI), Albuquerque, NM; Luminex Corporation, Austin, TX; Maurer & Hutson Consulting, Seattle, WA; MediVector, Inc., Boston, MA; Mesa Science Associates, Inc., Frederick, MD; Molecular Engineering & Sciences Institute, Seattle, WA; Murtech, Inc., Glen Burnie, MD; Nanotherapeutics, Inc., Alachua, FL; Noninvasix, Inc., Galveston, TX; Philips Healthcare, Andover, MA; PnuVax Incorporated, Kingston, CANADA; The Preclinical Radiobiology Laboratory, Division of Translational Radiation Sciences, Department of Radiation Oncology, University of Maryland, School of Medicine, Baltimore, MD; Quintiles, Inc., Durham, NC; Science Applications International Corporation, McLean, VA; Smart Consulting Group, West Chester, PA; Southern Research, Birmingham, AL; Southwest Research Institute, San Antonio, TX; Spero Therapeutics, Cambridge, MA; Therabron Therapeutics, Inc., Rockville, MD; Trideum Biosciences LLC, Huntsville, AL; University of Pittsburgh Center for Military Medicine Research, Pittsburgh, PA; Vaxess Technologies, Inc., Cambridge, MA; and Washington to Washington Consulting, Seattle, WA.

The general area of the CMG-MCSC's planned activity is (a) to enter into an Other Transaction Agreement (“OTA”) with the U.S. Government (“Government”) for the funding of certain research, development, testing and evaluation of prototypes to be conducted as a collaboration between the Government and Consortium Members, to enhance the capabilities of the Government and its departments and agencies in the field of countermeasures against chemical, biological, radiological and nuclear threats; (b) to develop countermeasures, first response and resilient systems; (c) to participate in the establishment of sound technical and programmatic performance goals based on the needs and requirements of the Government's Technology Objectives; (d) to provide a unified voice to effectively articulate the global and strategically important role medical countermeasures play in current and future national security objectives; and (e) to maximize the utilization of the Government's and Members' capabilities to effectively develop critical technologies which can be deployed and transitioned.

Patricia A. Brink,
Director of Civil Enforcement, Antitrust Division.

[FR Doc. 2016-01265 Filed 1-21-16; 8:45 am]

BILLING CODE P